DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Survey of Substance Abuse Treatment Services (N-SSATS) (OMB No. 0930-0106)— Revision

The Substance Abuse and Mental Health Services Administration (SAMHSA) is requesting a revision of the National Survey of Substance Abuse Treatment (N-SSATS) data collection (OMB No. 0930-0106), which expires on January 31, 2016. N-SSATS provides both national and state-level data on the numbers and types of patients treated and the characteristics of facilities providing substance abuse treatment services. It is conducted under the authority of section 505 of the Public Health Service Act (42 U.S.C. 290aa-4) to meet the specific mandates for annual information about public and private substance abuse treatment providers and the clients they serve.

This request includes:

• Collection of N-SSATS, which is an annual survey of substance abuse treatment facilities; and

• Updating of the Inventory of Behavioral Health Services (I-BHS) which is the facility universe for the N-SSATS as well as the annual survey of mental health treatment facilities, the National Mental Health Services Survey (N-MHSS). The I-BHS includes all substance abuse treatment and mental health treatment facilities known to SAMHSA. (The N-MHSS data collection is covered under OMB No. 0930-0119.)

The information in I-BHS and N-SSATS is needed to assess the nature and extent of these resources, to identify gaps in services, and to provide a database for treatment referrals. Both I-BHS and N-SSATS are components of the Behavioral Health Services Information System (BHSIS).

The request for OMB approval will include a request to update the I-BHS facility listing on a continuous basis and to conduct the N-SSATS and the between cycle N-SSATS (N-SSATS BC) in 2016, 2017, and 2018. The N-SSATS BC is a procedure for collecting services data from newly identified facilities between main cycles of the survey and will be used to improve the listing of treatment facilities in the online Behavioral Health Treatment Services Locator.

Planned Changes

I-BHS: No changes.

N-SSATS: The N-SSATS with client counts will continue to be conducted in alternate years, as in the past with an alternate version of the N-SSATS questionnaire that includes workforce questions as well as questions to update the Treatment Locator conducted in the interim years.

Version B (2016 and 2018)

The workforce questions will be conducted in even years in place of the “locator” version of N-SSATS that was completed in even years previously.

The following questions have been deleted:

Questions on religious affiliation, standard operating procedures, how (paper/electronic/both) a facility performs selected activities, questions about reporting client counts, including how the facility will complete client counts; number of facilities in client counts; names and addresses of additional facilities reported for; number of hospital inpatient client counts by category, by number under age 18, number receiving methadone, buprenorphine, or Vivitrol®, and number of dedicated beds; number of residential client counts by category, by number under age 18, and number receiving methadone, buprenorphine, or Vivitrol®, and number of dedicated beds; number of outpatient client counts by category, by number under age 18, and number receiving methadone, buprenorphine, or Vivitrol®, and capacity indicator; type of substance abuse problem, percent of co-occurring clients; and 12-month admissions, and the National Provider Identifier (NPI).

The following questions have been added:

A new question has been added to ascertain the numbers of types of workforce staff and the average number of hours worked per week for each type of staff. Three questions, one for each of the major types of treatment (hospital inpatient, residential, and outpatient) have been added asking for an overall number of active clients on the survey reference date; the purpose is to provide an indication of size of facility for analysis of the added workforce questions. A question asking overall numbers of active clients in the facility that received methadone, buprenorphine, or Vivitrol® for detoxification or maintenance purposes has been added to aid in the analysis of the added workforce question.

Version A (2017)

Client counts will be conducted in odd years. The National Provider Identifier (NPI) number question has been deleted.

N-SSATS (Between Cycles-BC): No changes.

Estimated annual burden for the DASIS activities is shown below:

Type of respondent and activity | Number of respondents | Responses per respondent | Total responses | Hours per response | Total burden hours
States:
I-BHS Online ¹ | 56 | 75 | 4,200 | 0.08 | 336
State Subtotal | 56 |  | 4,200 |  | 336
Facilities:
I-BHS application ² | 600 | 1 | 600 | 0.08 | 48
Augmentation screener | 2,000 | 1 | 2,000 | 0.08 | 160
N-SSATS questionnaire | 17,000 | 1 | 17,000 | 0.61 | 10,370
N-SSATS BC | 2,000 | 1 | 2,000 | 0.42 | 840
Facility Subtotal | 21,600 |  | 21,600 |  | 11,418
Total | 21,656 |  | 25,800 |  | 11,754
¹ States use the I-BHS Online system to submit information on newly licensed/approved facilities and on changes in facility name, address, status, etc.
² New facilities complete and submit the online I-BHS application form in order to get listed on the Inventory.

Send comments to Summer King, SAMHSA Reports Clearance Officer, Room 2-1057, One Choke Cherry Road, Rockville, MD 20857 or email her a copy at summer.king@samhsa.hhs.gov. Written comments should be received by September 21, 2015.

Summer King,
Statistician.

[FR Doc. 2015-17864 Filed 7-21-15; 8:45 am]

BILLING CODE 4162-20-P